DEPARTMENT OF THE INTERIOR

Fish and Wildlife Service

[FWS-R8-ES-2023-N063; FXES11130800000-234-FF08E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before September 8, 2023.

ADDRESSES: Document availability and comment submission: Submit requests for copies of the applications and related documents and submit any comments by one of the following methods. All requests and comments should specify the applicant name(s) and application number(s) (e.g., XXXXXX or PER0001234).

• Email: permitsR8ES@fws.gov.

• U.S. Mail: Susie Tharratt, Regional Recovery Permit Coordinator, U.S. Fish and Wildlife Service, 2800 Cottage Way, Room W-2606, Sacramento, CA 95825.

FOR FURTHER INFORMATION CONTACT: Susie Tharratt, via phone at 916-414-6561, or via email at permitsR8ES@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of listed species unless a Federal permit is issued that allows such activity. The ESA's definition of “take” includes such activities as pursuing, harassing, trapping, capturing, or collecting, in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Application No. | Applicant, city, state | Species | Location | Take activity | Permit action
787376 | Bloom Biological, Inc., Santa Ana, California | • Southwestern willow flycatcher (Empidonax traillii extimus) • Least Bell's vireo (Vireo bellii pusillus) • Pacific pocket mouse (Perognathus longimembris pacificus) | CA | Survey, capture, handle, measure, weigh, band, color-band, and release | Renew and amend.
PER1787424 | Ezra Kottler, Lakewood, Colorado | • Contra Costa goldfields (Lasthenia conjugens) | CA | Remove and reduce to possession | New.
225974 | Midpeninsula Regional Open Space District, Los Altos, California | • San Francisco garter snake (Thamnophis sirtalis tetrataenia) | CA | Perform habitat restoration | Amend.
58866B | Los Angeles Zoo, Los Angeles, California | • California condor (Gymnogyps californianus) | AZ, CA, ID, OR, UT | Receive, capture, handle, transport, artificially incubate and fertilize eggs; exchange eggs; collect tissue samples; captive breed; enter captive and wild nests; attach identification tags and transmitters; flush individuals at risk; and test for health parameters and administer veterinary treatment, care, and general husbandry while in captivity and the wild | Renew.
PER3319976 | Charleen Rode, Cayucos, California | • Tidewater goby (Eucyclogobius newberryi) | CA | Survey, capture, handle, and release | New.
72549C | Marty Lewis, Carson, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, and collect branchiopod cysts | Renew.
39186A | Carlos Alvarado-Laguna, Sacramento, California | • California tiger salamander (Ambystoma californiense), Sonoma County and Santa Barbara County distinct population segments | CA | Survey, capture, handle, and release | Renew.
021929 | Sacramento Splash, Sacramento, California | • Conservancy fairy shrimp (Branchinecta conservatio) • Longhorn fairy shrimp (Branchinecta longiantenna) • Vernal pool tadpole shrimp (Lepidurus packardi) | CA | Survey, capture, handle, release, and collect adult vouchers | Renew.
PER0011954 | Daniel Schrimsher, Salinas, California | • Arroyo (=arroyo southwestern) toad (Anaxyrus californicus) | CA | Survey, capture, handle, and release | Amend.
45251C | Emily Moffitt Scricca, Danville, California | • California tiger salamander (Ambystoma californiense), Sonoma County and Santa Barbara County distinct population segments | CA | Survey, capture, handle, and release | Renew.
87580B | City of Costa Mesa, Costa Mesa, California | • Riverside fairy shrimp (Streptocephalus woottoni) • San Diego fairy shrimp (Branchinecta sandiegonensis) | CA | Survey, capture, handle, release, collect adult vouchers, conduct habitat restoration and maintenance, and collect inoculum | Renew.
02737B | Susan Dewar, Rocklin, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, and collect branchiopod cysts | Renew.
13115C | Lisa Henderson, San Ramon, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, and collect adult vouchers | New.
058073 | Susan Christopher, Santa Margarita, California | • California tiger salamander (Ambystoma californiense), Sonoma County and Santa Barbara County distinct population segments | CA | Survey, capture, handle, and release | Renew.
811615 | Cynthia Daverin, San Diego, California | • Quino checkerspot butterfly (Euphydryas editha quino) • Southwestern willow flycatcher (Empidonax traillii extimus) | CA | Pursue, survey using record vocalizations | Renew.
003269 | Robert James, San Diego, California | • Pacific pocket mouse (Perognathus longimembris pacificus) | CA | Survey, capture, handle, and release | Renew.
814222 | California Department of Parks and Recreation, San Diego, California | • Southwestern willow flycatcher (Empidonax traillii extimus) | CA | Survey using record vocalizations | Renew.
PER3640597 | Kendra Bonsall, Santa Barbara, California | • Tidewater goby (Eucyclogobius newberryi) | CA | Survey, capture, handle, and release | New.
PER0048094 | Sequoia Park Zoo (City of Eureka), Eureka, California | • California condor (Gymnogyps californianus) | AZ, CA, ID, OR, UT | Receive, capture, handle, transport, rehabilitate, collect tissue samples, test for health parameters, and administer veterinary treatment, care and general husbandry while in captivity and the wild | New.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of be made available for public disclosure in their entirety.

Next Steps

If we decide to issue permits to any of the applicants listed in this notice, we will publish a notice in the Federal Register.

Authority

We publish this notice under section 10(c) of the Endangered Species Act of 1973, as amended (16 U.S.C. 1531 et seq.).

Peter Erickson,
Acting Regional Ecological Services Program Manager, Pacific Southwest Region, Sacramento, California.

[FR Doc. 2023-16998 Filed 8-8-23; 8:45 am]

BILLING CODE 4333-15-P